FEDERAL MARITIME COMMISSION

Ocean Transportation Intermediary License Reissuance

The Commission gives notice that the following Ocean Transportation Intermediary license has been reissued pursuant to section 19 of the Shipping Act of 1984 (46 U.S.C. 40101).

License No.: 016568F.

Name: 5K Logistics, Inc. dba Haul of Fame Lines.

Address: 1090 York Road, Warminster, PA 18974.

Date Reissued: March 13, 2014.

Sandra L. Kusumoto,
Director, Bureau of Certification and Licensing.

[FR Doc. 2014-11059 Filed 5-13-14; 8:45 am]

BILLING CODE 6730-01-P